DEPARTMENT OF ENERGY

Federal Energy Regulatory Commission

[Docket No. CP01-2-000]

Columbia Gas Transmission Corporation; Notice of Application

October 11, 2000.

Take notice that on October 4, 2000, Columbia Gas Transmission Corporation (Columbia), P.O. Box 1273, Charleston, West Virginia 25325-1273, filed in Docket No. CP01-2-000 an application pursuant to Section 7(b) of the Natural Gas (NGA) for permission and approval to abandon by sale, five natural gas storage fields located in various counties of West Virginia and Ohio. Columbia further requests authorization to abandon by sale the base gas in those fields, all as more fully set forth in the application which is on file with the Commission and open to public inspection. This filing may be viewed on the web at http://www.ferc.fed.us/online/rims.htm (call 202-208-2222 for assistance).

Columbia states that at the time of application, the purchasing parties are unknown and Columbia proposes to notify the Commission of the purchaser's identity within ten (10) days of signing a Purchase and Sale Agreement. Columbia further states that it does not propose the abandonment of service to any customer as a result of the Sale. It is said that no new or expanded services are proposed, nor is any construction or expansion of Columbia's facilities proposed in connection with the sale.

Any person desiring to be heard or any person desiring to make any protests with reference to said application should on or before November 1, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that permission and approval for the proposed abandonment are required by the public convenience and necessity. If a motion for leave to intervene is timely filed, or if the Commission on its own motion believes that a formal hearing is required, further notice of such hearing will be duly given.

Under the procedure herein provided for, unless otherwise advised, it will be unnecessary for Columbia to appear or be represented at the hearing.

David P. Boergers,
Secretary.

[FR Doc. 00-26552 Filed 10-16-00; 8:45 am]

BILLING CODE 6717-01-M